DEPARTMENT OF HOMELAND SECURITY

Office of the Secretary

6 CFR Chapter I

Temporary Extension of Applicability of Regulations Governing Conduct on Federal Property

AGENCY: Office of the Secretary, Department of Homeland Security (DHS).

ACTION: Notification of temporary extension of the applicability of regulations.

SUMMARY: This document announces that the Secretary of Homeland Security, pursuant to the Homeland Security Act of 2002, has temporarily extended the applicability of certain regulations governing conduct on federal property to a certain area within the United States Border Patrol's El Centro Sector allowing for their enforcement. This temporary administrative extension enables DHS to protect and secure federal property at or near the project area for replacement border barrier near the city of Calexico, California, including but not limited to, project sites, staging areas, access roads, and buildings temporarily erected to support construction activities, and to carry out DHS's statutory obligations to protect and secure the nation's borders. The project area for border barrier replacement is situated within a geographic area that starts at the Calexico West Port of Entry, and extends approximately three miles west along the southern U.S. border.

DATES: Pursuant to 40 U.S.C. 1315(d), the extension began on May 20, 2018 and will continue for the duration of the construction activities related to the border barrier replacement project near the city of Calexico, California.

FOR FURTHER INFORMATION CONTACT: Joshua A. Vayer, Division Director, Protective Operations Division, Federal Protective Service, joshua.s.vayer@hq.dhs.gov.

SUPPLEMENTARY INFORMATION:

Background

Pursuant to section 1706 of the Homeland Security Act of 2002, Public Law 107-296, 116 Stat. 2135 (Nov. 25, 2002), as codified at 40 U.S.C. 1315, the Secretary of Homeland Security is responsible for protecting the buildings, grounds, and property owned, occupied, or secured by the federal government (including any agency, instrumentality, or wholly owned or mixed ownership corporation thereof) and the persons on the property. To carry out this mandate, the Department is authorized to enforce the applicable federal regulations for the protection of persons and property set forth in 41 CFR part 102-74, subpart C.¹ These regulations govern conduct on federal property and set forth the relevant criminal penalties. Although these regulations apply to all property under the authority of the General Services Administration and to all person entering in or on such property,² the Secretary of Homeland Security is authorized pursuant to 40 U.S.C. 1315(d)(2)(A) to extend the applicability of these regulations to any property owned or occupied by the federal government and to enforce them.

¹ Although these regulations were issued prior to the Homeland Security Act, per section 1512 of the Act, these regulations remain the relevant regulations for purposes of the protection and administration of property owned or occupied by the federal government.

² See 41 CFR 102-74.365.

Temporary Administrative Extension of Applicability of Regulations Governing Conduct on Federal Property to Certain Areas in the Vicinity of the Border Near the City of Calexico

DHS is replacing existing border fence with bollard wall near the city of Calexico in the United States Border Patrol's El Centro Sector pursuant to several statutory and executive directives.³ In order to protect and secure the property at or near the border barrier replacement project area, including, but not limited to, project sites, staging areas, access roads, and buildings temporarily erected to support construction activities, I temporarily extended the applicability, allowing the enforcement, of regulations governing the conduct of individuals on federal property to areas in or around the border barrier replacement project area, pursuant to 40 U.S.C. 1315(d)(2)(A). The project area for border barrier replacement wall and fence replacement is situated within a geographic area that starts at the Calexico West Port of Entry, and extends to approximately three miles west along the southern U.S. border. Specifically, I temporarily extended the applicability, allowing the enforcement, of the regulations in 41 CFR part 102-74, subpart C, for the protection and administration of property owned or occupied by the Federal Government and persons on the property at or near the border barrier replacement project area near the city of Calexico, California.

³ The statutory and executive directives relating to the construction of the border wall replacement fencing include, but are not limited to, section 102 of the Illegal Immigration Reform and Immigrant Responsibility Act of 1996, Public Law 104-208, Div. C, 110 Stat. 3009-546, 3009-554 (Sept. 30, 1996) (8 U.S.C. 1103 note), as amended by the REAL ID Act of 2005, Public Law 109-13, Div. B, 119 Stat. 231, 302, 306 (May 11, 2005) (8 U.S.C. 1103 note), the Secure Fence Act of 2006, Public Law 109-367, section 3, 120 Stat. 2638 (Oct. 26, 2006) (8 U.S.C. 1103 note), and the Department of Homeland Security Appropriations Act, 2008, Public Law 110-161, Div. E, Title V, section 564, 121 Stat. 2090 (Dec. 26, 2007) (8 U.S.C. 1103 note); Section 2 of the Secure Fence Act of 2006, Public Law l09-367, 120 Stat. 2638 (Oct. 26, 2006) (8 U.S.C. 1701 note); and E.O. 13767.

The regulations in 41 CFR part 102-74, subpart C, will remain applicable and enforceable at these locations for the duration of the construction related to the border barrier replacement near the city of Calexico, California.

Kirstjen M. Nielsen,
Secretary of Homeland Security.

[FR Doc. 2018-13725 Filed 6-26-18; 8:45 am]

BILLING CODE 4410-10-P